DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons whose property and interests in property have been unblocked and who have been removed from the Specially Designated Nationals and Blocked Persons List (SDN List).

DATES: These actions take effect on the dates listed in the SUPPLEMENTARY INFORMATION.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On June 25, 2024, OFAC determined that the property and interests in property subject to U.S. jurisdiction of the following persons are unblocked and they have been removed from the SDN List.

Individuals

1. VALENCIA CORNELIO, Armando (a.k.a. CORNELIO VALENCIA, Armando; a.k.a. VALENCIA CABALLERO, Elias Armando; a.k.a. VALENCIA PENA, Armando); DOB 15 Jun 1954; alt. DOB 28 Nov 1959; POB Mexico (individual) [SDNTK].

2. GASTELUM SERRANO, Jaime (a.k.a. “KIO”); DOB 28 Nov 1972; POB Culiacan, Sinaloa, Mexico; nationality Mexico; C.U.R.P. GASJ721128HSLSRM06 (Mexico) (individual) [SDNTK].

3. CARO URIAS, Omar, Calle San Gonzalo 1970-43, Col. Santa Isabel, Zapopan, Jalisco, Mexico; Av. Ramon Corona 4750 Int. L-2, Col. Jardin Real, Zapopan, Jalisco, Mexico; Av. Ramon Corona 4750 Int. L-3, Col. Jardin Real, Zapopan, Jalisco, Mexico; Av. Ramon Corona 4750 Int. L-6, Col. Jardin Real, Zapopan, Jalisco, Mexico; Av. Ramon Corona 4750 Int. L-7, Col. Jardin Real, Zapopan, Jalisco, Mexico; Av. Ramon Corona 4750 Int. L-8, Col. Jardin Real, Zapopan, Jalisco, Mexico; DOB 19 Jun 1977; POB Jalisco, Mexico; citizen Mexico; Gender Male; R.F.C. CAUO770619C87 (Mexico); C.U.R.P. CAUO770619HJCRRM08 (Mexico) (individual) [SDNTK] (Linked To: FLORES DRUG TRAFFICKING ORGANIZATION; Linked To: LOLA LOLITA 1110, S. DE R.L. DE C.V.; Linked To: NOCTURNUM INC, S. DE R.L. DE C.V.).

4. BARRERA MARIN, Alvaro, c/o APVA S.A., Cali, Colombia; c/o BARRERA RIOS NEGOCIOS INMOBILIARIOS E.U., Cali, Colombia; c/o CECEP EDITORES S.A., Cali, Colombia; c/o CECEP S.A., Cali, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 56D No. 28B-73, Barrio Las Mercedes, Palmira, Valle, Colombia; DOB 21 Nov 1940; POB Sevilla, Valle, Colombia; Cedula No. 6451857 (Colombia); Passport AG003135 (Colombia) (individual) [SDNT].

5. BARRERA RIOS, Alfonso, c/o ALFONSO BARRERA RIOS Y CIA. S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 14 Oeste No. 2B1-45 apto. 302E, Cali, Colombia; c/o A K DIFUSION S.A. PUBLICIDAD Y MERCADEO, Cali, Colombia; c/o A K EDUCAL S.A. EDUCACION CON CALIDAD, Cali, Colombia; c/o B R C S.A., Cali, Colombia; c/o SERPROVIS S.A. SERVICIOS Y PROVISIONES, Cali, Colombia; DOB 08 Dec 1975; POB Cali, Colombia; Cedula No. 79648943 (Colombia); Passport AJ963037 (Colombia) (individual) [SDNT].

6. BARRERA RIOS, Alvaro Enrique, c/o ALFONSO BARRERA RIOS Y CIA. S. EN C.S., Cali, Colombia; c/o ALVARO ENRIQUE BARRERA RIOS Y CIA S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Carrera 54A No. 5A-21, Cali, Colombia; c/o A K DIFUSION S.A. PUBLICIDAD Y MERCADEO, Cali, Colombia; c/o A K EDUCAL S.A. EDUCACION CON CALIDAD, Cali, Colombia; c/o B R C S.A., Cali, Colombia; c/o SERPROVIS S.A. SERVICIOS Y PROVISIONES, Cali, Colombia; DOB 05 Dec 1968; POB Cali, Colombia; Cedula No. 16758185 (Colombia); Passport AJ149349 (Colombia) (individual) [SDNT].

7. BARRERA RIOS, Victoria Eugenia, c/o ALFONSO BARRERA RIOS Y CIA. S. EN C.S., Cali, Colombia; c/o APVA S.A., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Transversal 18 No. 127-43 Torre 4 apto. 1201, Bogota, Colombia; c/o A K DIFUSION S.A. PUBLICIDAD Y MERCADEO, Cali, Colombia; c/o A K EDUCAL S.A. EDUCACION CON CALIDAD, Cali, Colombia; c/o B R C S.A., Cali, Colombia; c/o RIOS JIMENEZ S. EN C.S., Bogota, Colombia; c/o SERPROVIS S.A. SERVICIOS Y PROVISIONES, Cali, Colombia; DOB 11 Dec 1970; POB Cali, Colombia; Cedula No. 66818996 (Colombia); Passport AI939751 (Colombia) (individual) [SDNT].

8. FRANCO RUIZ, Ruben Alberto, c/o CAMPO LIBRE A LA DIVERSION E.U., Yumbo, Valle, Colombia; Avenida 5N No. 51-57, Cali, Colombia; Calle 34N No. 3CN-62, Cali, Colombia; DOB 18 Feb 1964; POB Cali, Colombia; Cedula No. 16702454 (Colombia); Passport AH070927 (Colombia) (individual) [SDNT].

9. LOPERA BARBOSA, Juan Carlos, c/o ASESORIA Y SOLUCIONES GRUPO CONSULTOR S.A., Cali, Colombia; c/o CONSULTORIA INTEGRAL Y ASESORIA EMPRESARIAL S.A., Cali, Colombia; c/o INVERSIONES EPOCA S.A., Cali, Colombia; c/o J.A.J. BARBOSA Y CIA. S.C.S., Cali, Colombia; Carrera 81 No. 13A-125 Casa 11, Cali, Colombia; DOB 18 Jan 1968; POB Cali, Colombia; Cedula No. 16746731 (Colombia); Passport AK122874 (Colombia) (individual) [SDNT].

10. LOPERA BARBOSA, Jairo Humberto, c/o ASESORIA Y SOLUCIONES GRUPO CONSULTOR S.A., Cali, Colombia; c/o CONSULTORIA INTEGRAL Y ASESORIA EMPRESARIAL S.A., Cali, Colombia; c/o INVERSIONES EPOCA S.A., Cali, Colombia; c/o J.A.J. BARBOSA Y CIA. S.C.S., Cali, Colombia; Carrera 72 No. 11-46 Blq. 11 apto. 403, Cali, Colombia; DOB 22 Feb 1971; POB Cali, Colombia; Cedula No. 16792756 (Colombia); Passport AJ172334 (Colombia) (individual) [SDNT].

11. QUINONES, Benedicto (a.k.a. QUINONEZ, Benedicto), c/o QUINONES MELO Y CIA. LTDA., Cali, Colombia; c/o ARTURO QUINONEZ LTDA., Cali, Colombia; c/o COMERCIALIZADORA CGQ LTDA., Cali, Colombia; Calle 12A No. 107-25 No. 2, Cali, Colombia; DOB 25 Jun 1946; POB Cali, Colombia; Cedula No. 14934266 (Colombia); Passport 14934266 (Colombia) (individual) [SDNT].

12. RAMIREZ ABADIA, Juan Carlos, Calle 6A No. 34-65, Cali, Colombia; c/o DISDROGAS LTDA., Yumbo, Valle, Colombia; c/o RAMIREZ ABADIA Y CIA. S.C.S., Cali, Colombia; DOB 16 Feb 1963; Cedula No. 16684736 (Colombia); Passport AD127327 (Colombia) (individual) [SDNT].

13. RAMIREZ GARCIA, Hernan Felipe, c/o CONSULTORIAS FINANCIERAS S.A., Cali, Colombia; Calle 7 No. 51-37, Cali, Colombia; DOB 09 Jun 1969; POB Cali, Colombia; Cedula No. 16772586 (Colombia); Passport AI848476 (Colombia) (individual) [SDNT].

14. RAMIREZ LENIS, Jhon Jairo, Carrera 4C No. 34-27, Cali, Colombia; DOB 19 Jul 1966; Cedula No. 79395056 (Colombia) (individual) [SDNT].

15. VILLA VINASCO, Armando Alonso, Calle Angel Larra, 4, Madrid 28027, Spain; Miranda, Cauca, Colombia; DOB 24 Oct 1960; Cedula No. 16645357 (Colombia) (individual) [SDNT].

Entities

1. NOCTURNUM INC, S. DE R.L. DE C.V. (a.k.a. CORTEZ COCINA AUTENTICA; a.k.a. NOCTURN INC, S. DE R.L. DE C.V.; a.k.a. “CORTEZ”; a.k.a. “EL CORTEZ”; a.k.a. “RESTAURANT CORTEZ”; a.k.a. “RESTAURANTE CORTEZ”), Guadalajara, Jalisco, Mexico; Diagonal San Jorge 100, Guadalajara, Jalisco, Mexico; Av. Americas 1417-B, Col. Providencia 2A Seccion, Guadalajara, Jalisco 44630, Mexico; website www.cortez.com.mx; RFC NIN130327JBO (Mexico); Folio Mercantil No. 74711 (Jalisco) (Mexico) [SDNTK].

2. A K DIFUSION S.A. PUBLICIDAD Y MERCADEO, Calle 28N No. 6BN-54, Cali, Colombia; NIT # 900015699-8 (Colombia) [SDNT].

3. A K EDUCAL S.A. EDUCACION CON CALIDAD, Calle 28N No. 6BN-54, Cali, Colombia; NIT # 900015704-7 (Colombia) [SDNT].

4. ALFONSO BARRERA RIOS Y CIA. S. EN C.S., Calle 14 Oeste No. 2B1-45 apto. 302E, Cali, Colombia; NIT # 900101150-5 (Colombia) [SDNT].

5. ALVARO ENRIQUE BARRERA RIOS Y CIA. S. EN C.S., Calle 14 Oeste No. 2B1-45 apto. 302E, Cali, Colombia; NIT # 900105952-3 (Colombia) [SDNT].

6. APVA S.A., Calle 5A No. 22-13, Cali, Colombia; NIT # 805010421-0 (Colombia) [SDNT].

7. ARTURO QUINONEZ LTDA. (a.k.a. RESTAURANTE SANTA COLOMBIA), Calle 10 No. 46-120, Cali, Colombia; NIT # 900093492-3 (Colombia) [SDNT].

8. ASESORIA Y SOLUCIONES GRUPO CONSULTOR S.A., Calle 15 Norte No. 6N-34 ofc. 404, Cali, Colombia; NIT # 805018000-1 (Colombia) [SDNT].

9. B R C S.A. (a.k.a. BARRERA RIOS CAMACHO ADMINISTRACION Y FINANZAS S.A.), Calle 28N No. 6BN-54, Cali, Colombia; NIT # 900021843-7 (Colombia) [SDNT].

10. BARRERA RIOS NEGOCIOS INMOBILIARIOS E.U., Carrera 22 No. 5A-21, Cali, Colombia; NIT # 805030626-9 (Colombia) [SDNT].

11. CAMPO LIBRE A LA DIVERSION E.U. (a.k.a. PARQUE YAKU; a.k.a. YAKU E.U.), Calle 15 No. 27-33, Yumbo, Valle, Colombia; NIT # 805026848-1 (Colombia) [SDNT].

12. CECEP EDITORES S.A., Calle 5A No. 22-13, Cali, Colombia; Carrera 22 No. 5A-21, Cali, Colombia; NIT # 805018858-1 (Colombia) [SDNT].

13. CECEP S.A. (f.k.a. CENTRO COLOMBIANO DE ESTUDIOS PROFESIONALES LTDA.), Avenida 6 No. 28-102, Cali, Colombia; Calle 9B No. 29A-67, Cali, Colombia; NIT # 890315495-4 (Colombia) [SDNT].

14. COMERCIALIZADORA CGQ LTDA. (a.k.a. CENTROPARTES CALI), Carrera 18 No. 9-24, Cali, Colombia; NIT # 805029062-3 (Colombia) [SDNT].

15. COMERCIALIZADORA DE BIENES Y SERVICIOS ADMINISTRATIVOS Y FINANCIEROS S.A. (f.k.a. RENTAS Y ADMINISTRACIONES S.A.), Calle 6 No. 39-25 Local 206, Cali, Colombia; NIT # 800200471-6 (Colombia) [SDNT].

16. CONSULTORIA INTEGRAL Y ASESORIA EMPRESARIAL S.A. (f.k.a. ASECOM S.A.; a.k.a. COINEMP S.A.), Calle 15 Norte No. 6N-34 ofc. 404, Cali, Colombia; NIT # 890326149-8 (Colombia) [SDNT].

17. CONSULTORIAS FINANCIERAS S.A. (a.k.a. COFINANZAS), Carrera 3 No. 12-40 ofc. 1001, Cali, Colombia; NIT # 805017446-6 (Colombia) [SDNT].

18. DISDROGAS LTDA. (f.k.a. RAMIREZ Y CIA. LTDA.), Carrera 38 No. 13-138 Acopi, Yumbo, Valle, Colombia; Calle 15 No. 11-34, Pasto, Narino, Colombia; Carrera 1D Bis. No. 15-55, Neiva, Huila, Colombia; Calle 39 No. 17-42, Neiva, Huila, Colombia; Apartado Aereo 30530, Cali, Colombia; NIT # 800058576-2 (Colombia) [SDNT].

19. ENSAMBLADORA COLOMBIANA AUTOMOTRIZ S.A. (a.k.a. E.C.A. S.A.), Carrera 39 No. 43-75, Barranquilla, Colombia; NIT # 817000791-1 (Colombia) [SDNT].

20. INVERSIONES EPOCA S.A., Calle 15 Norte No. 6N-34 ofc. 404, Cali, Colombia; NIT # 805012582-7 (Colombia) [SDNT].

21. J.A.J. BARBOSA Y CIA. S.C.S. (f.k.a. COMERCIO GLOBAL Y CIA. S.C.S.), Calle 15 Norte No. 6N-34 ofc. 404, Cali, Colombia; NIT # 800214437-6 (Colombia) [SDNT].

22. NEGOCIOS Y CAPITALES S.A., Avenida 30 de Agosto No. 34-51, Pereira, Colombia; NIT # 800101701-0 (Colombia) [SDNT].

23. QUINONES MELO Y CIA. LTDA., Carrera 3 No. 11-55 ofc. 206, Cali, Colombia; NIT # 890327616-0 (Colombia) [SDNT].

24. RAMIREZ ABADIA Y CIA. S.C.S., Avenida Estacion No. 5BN-73 of. 207, Cali, Colombia; NIT # 800117676-4 (Colombia) [SDNT].

25. RIOS JIMENEZ S. EN C.S., Carrera 18 No. 38-35, Bogota, Colombia; NIT # 830007478-1 (Colombia) [SDNT].

26. SERPROVIS S.A. SERVICIOS Y PROVISIONES, Calle 28N No. 6BN-54, Cali, Colombia; NIT # 900023730-2 (Colombia) [SDNT].

27. TURISMO HANSA S.A., Avenida 4 Norte No. 19N-34 ofc. 302, Cali, Colombia; Centro Comercial New Point Local 204, San Andres, Colombia; NIT # 860027780-4 (Colombia) [SDNT].

28. UNIDAD CARDIOVASCULAR LTDA. (a.k.a. UNICA LTDA.), Calle 25 No. 5BN-08, Cali, Colombia; NIT # 800232679-8 (Colombia) [SDNT].

29. WORLD LINE SYSTEM S.A., Calle 46 No. 45A-38, Palmira, Valle, Colombia; Avenida 6 Norte No. 23N-85, Cali, Colombia; NIT # 815003764-9 (Colombia) [SDNT].

Additionally, OFAC is updating the SDN List entry for the previously designated person listed below.

From:

CARO URIAS, Efrain, Av. de las Americas 2000-607, Col. Vista del Country, Guadalajara, Jalisco, Mexico; Av. Americas 2000-7, Col. Vistas del Country, Guadalajara, Jalisco, Mexico; Jose Maria Vigil 2830, Col. Providencia, Guadalajara, Jalisco, Mexico; Av. Americas 1417-A, Col. Providencia, Guadalajara, Jalisco 44630, Mexico; Av. Americas 1417-B, Col. Providencia, Guadalajara, Jalisco 44630, Mexico; Giovanni Papini 364-B, Col. Jardines de la Patria, Zapopan, Jalisco 45110, Mexico; Calle San Gonzalo 1970-43, Col. Santa Isabel, Zapopan, Jalisco, Mexico; Los Cerezos 86, Coto 3, Col. Jardin Real, Zapopan, Jalisco, Mexico; Paseo Puesta del Sol 4282-6, Col. Lomas Altas, Zapopan, Jalisco 45110, Mexico; DOB 11 Apr 1974; POB Guadalajara, Jalisco, Mexico; citizen Mexico; Gender Male; R.F.C. CAUE740411RG0 (Mexico); C.U.R.P. CAUE740411HJCRRF07 (Mexico) (individual) [SDNTK] (Linked To: FLORES DRUG TRAFFICKING ORGANIZATION; Linked To: LOLA LOLITA 1110, S. DE R.L. DE C.V.; Linked To: MARIMBA ENTERTAINMENT, S.R.L. DE C.V.; Linked To: NOCTURNUM INC, S. DE R.L. DE C.V.).

To:

CARO URIAS, Efrain, Av. de las Americas 2000-607, Col. Vista del Country, Guadalajara, Jalisco, Mexico; Av. Americas 2000-7, Col. Vistas del Country, Guadalajara, Jalisco, Mexico; Jose Maria Vigil 2830, Col. Providencia, Guadalajara, Jalisco, Mexico; Av. Americas 1417-A, Col. Providencia, Guadalajara, Jalisco 44630, Mexico; Av. Americas 1417-B, Col. Providencia, Guadalajara, Jalisco 44630, Mexico; Giovanni Papini 364-B, Col. Jardines de la Patria, Zapopan, Jalisco 45110, Mexico; Calle San Gonzalo 1970-43, Col. Santa Isabel, Zapopan, Jalisco, Mexico; Los Cerezos 86, Coto 3, Col. Jardin Real, Zapopan, Jalisco, Mexico; Paseo Puesta del Sol 4282-6, Col. Lomas Altas, Zapopan, Jalisco 45110, Mexico; DOB 11 Apr 1974; POB Guadalajara, Jalisco, Mexico; citizen Mexico; Gender Male; R.F.C. CAUE740411RG0 (Mexico); C.U.R.P. CAUE740411HJCRRF07 (Mexico) (individual) [SDNTK] (Linked To: FLORES DRUG TRAFFICKING ORGANIZATION; Linked To: LOLA LOLITA 1110, S. DE R.L. DE C.V.; Linked To: MARIMBA ENTERTAINMENT, S.R.L. DE C.V.).

Dated: June 25, 2024.
Bradley T. Smith,
Director, Office of Foreign Assets Control, U.S. Department of the Treasury.

[FR Doc. 2024-14292 Filed 6-27-24; 8:45 am]

BILLING CODE 4810-AL-P